DEPARTMENT OF COMMERCE

National Oceanic and Atmospheric Administration

RIN 0648-XG191

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Salmon Technical Team (STT) will hold a planning session to discuss the development of salmon rebuilding plans. This meeting will be held via webinar and is open to the public.

DATES: The webinar will be held Thursday, May 17, 2018, from 9 a.m. to 3 p.m., or until business has been completed.

ADDRESSES: The meeting will be held via webinar. A public listening station is available at the Pacific Council office (address below). To attend the webinar, use this link: https://www.gotomeeting.com/webinar (click “Join a Webinar” in top right corner of page). (1) Enter the Webinar ID: 457-307-347; (2) Enter your name and email address (required). You must use your telephone for the audio portion of the meeting by dialing this TOLL number 1-213-929-4232; (3) Enter the Attendee phone audio access code 421-973-026; (4) Enter your audio phone pin (shown after joining the webinar). NOTE: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at 503-820-2280, extension 411 for technical assistance.

Council address: Pacific Fishery Management Council, 7700 NE Ambassador Place, Suite 101, Portland, OR 97220-1384.

FOR FURTHER INFORMATION CONTACT: Robin Ehlke, Pacific Council; telephone: (503) 820-2410.

SUPPLEMENTARY INFORMATION: The purpose of this planning session is to discuss the schedule and workload associated with the development of five salmon rebuilding plans in 2018. The STT will discuss a tentative timeline and meeting schedule for completing the plans and contributions of entities outside the STT in the development of rebuilding plans. This webinar is intended to address the logistics of developing the plans; detailed discussions of actual content will occur at future meetings. A proposed agenda will be posted once available. If time and interest allows, additional pertinent topics may be discussed, including, but not limited to, future Council agenda items.

Three coho stocks (Queets coho, Strait of Juan de Fuca coho, and Snohomish coho) and two Chinook stocks (Sacramento River fall Chinook and Klamath River fall Chinook) were found to meet the criteria for being classified as overfished in the Pacific Council's Review of 2017 Ocean Salmon Fisheries, released in February 2018. Under the tenants of the Salmon Fishery Management Plan (FMP), a rebuilding plan is required for each of these stocks. Among other requirements stipulated in Chapter 3 of the FMP, the STT is to propose a rebuilding plan for Council consideration within one year.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: April 23, 2018.
Tracey L. Thompson,
Acting Deputy Director, Office of Sustainable Fisheries, National Marine Fisheries Service.

[FR Doc. 2018-08805 Filed 4-25-18; 8:45 am]

BILLING CODE 3510-22-P